SMALL BUSINESS ADMINISTRATION

Military Reservist Economic Injury Disaster Loans; Interest Rate for Third Quarter FY 2015

In accordance with the Code of Federal Regulations 13—Business Credit and Assistance § 123.512, the following interest rate is effective for Military Reservist Economic Injury Disaster Loans approved on or after April 20, 2015.

Military Reservist Loan Program—4.000%

Dated: April 16, 2015.
Joseph P. Loddo,
Acting Associate Administrator for Disaster Assistance.

[FR Doc. 2015-09637 Filed 4-24-15; 8:45 am]

BILLING CODE P